DEPARTMENT OF ENERGY

Federal Energy Regulatory Commission

[Docket Nos. RP00-467-002 and RP01-19-002]

Midwestern Gas Transmission Company; Notice of Compliance Filing

February 21, 2003.

Take notice that on February 18, 2003, Midwestern Gas Transmission Company (Midwestern) tendered for filing as part of its FERC Gas Tariff, Third Revised Volume No. 1, the revised tariff sheets identified at Appendix A to the filing.

Midwestern states that the revised tariff sheets are being filed in order to comply with the Commission's December 19, 2002 Order in the referenced proceedings, which relates to Midwestern's previous filings to comply with Order Nos. 637, 637-A, and 637-B.

Midwestern states that copies of this filing have been sent to all of Midwestern's contracted Shippers, interested state regulatory commissions, and all parties of record in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 3, 2003.

Magalie R. Salas,
Secretary.

[FR Doc. 03-4714 Filed 2-26-03; 8:45 am]

BILLING CODE 6717-01-P